DEPARTMENT OF ENERGY

Federal Energy Regulatory Commission

[Docket No. RP04-149-000]

Texas Gas Transmission, LLC; Notice of Annual Cash-Out Report

February 3, 2004.

Take notice that on January 30, 2004, Texas Gas Transmission, LLC (Texas Gas) tendered for filing a report, which compares its cash-out revenues with its cash-out costs incurred for the annual billing period November 1, 2002, through October 31, 2003, in accordance with its tariff. Texas Gas states that there is no rate impact to customers as a result of this filing.

Texas Gas states that the filing has been served upon Texas Gas' jurisdictional customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below . Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Comment Date: February 10, 2004.

Magalie R. Salas,
Secretary.

[FR Doc. E4-232 Filed 2-9-04; 8:45 am]

BILLING CODE 6717-01-P